DEPARTMENT OF HEALTH AND HUMAN SERVICES

Centers for Disease Control and Prevention

[60Day-08-05CL]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Maryam I. Daneshvar, CDC Acting Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Formative Evaluation of Adults' and Children's Views Related to Promotion of Healthy Food Choices—New—National Center for Chronic Disease Prevention and Health Promotion (NCCDPHP), Centers for Disease Control and Prevention (CDC).

Background and Brief Description

In Fiscal Year (FY) 2004, Congress directed the Centers for Disease Control and Prevention (CDC) to conduct formative research on the attitudes of children and parents regarding nutrition behavior. Specifically, the conferees' FY 04 Appropriation Language instructs CDC to research parents' and children's viewpoints on “the characteristics of effective marketing of foods to children to promote healthy food choices.” Upon completion, a report detailing CDC's findings is to “be submitted to the appropriate Committees of jurisdiction of Congress.”

In response, CDC has contracted with the Academy for Educational Development (AED) to conduct focus groups to identify key audience concepts around food choices, and develop and test concepts and messages aimed at increasing healthy food choices among children. For the research to be useful to Congress and to the nation's public health agenda, a thorough understanding of children at different developmental stages regarding their attitudes toward healthy food choices, and the barriers and motivations for adopting and sustaining these choices is essential. Additionally, a thorough understanding of parents and caregivers who can influence the health behaviors of children is important.

A total of 384 children and 336 parents will be organized into 90 focus groups (8 respondents per focus group). The 90 focus groups will be conducted in three phases (36 focus groups in Phase 1, 36 focus groups in Phase 2, and 18 focus groups in Phase 3). The 36 focus groups in Phase 1 will consist of 24 focus groups of “tweens” (children ages 9-12 years) and 12 focus groups of their parents or key caregivers. Current literature and opinion leaders both strongly suggest that tweens greatly influence nutritional decisions made by their parents and younger siblings. Similarly, the 36 focus groups in Phase 2 will consist of 24 focus groups of children (ages 5-8 years) and 12 focus groups of their parents. Although parents and children may be recruited as parent-child dyads, parents will participate in focus groups for parents only, and children will participate in focus groups for children only. Phase 3 will consist of 18 focus groups involving parents or caregivers of children ages 2-4 years; no children in this age group will be recruited.

Focus group recruitment will incorporate appropriate representation of diverse ethnic groups, and the groups will be held in several cities to ensure broad geographic representation. Participants will be recruited by focus group facilities utilizing their database to solicit and screen interested parties. Both parents and children will participate in the screening process as well as focus group participation. It is expected that two households will be screened in order to recruit each participating Parent, Child, or Parent-Child dyad. Each focus group will be asked to respond verbally. The moderator will utilize a prepared guide which is designed to specifically ensure that the discussion is limited to 2 hours. The focus group moderator will use one guide for all focus groups involving children, and a similar but distinct guide for all focus groups involving parents or caregivers.

The intent of this research is to solicit input and feedback from potential audiences. The information gathered will be used to develop, refine, and modify messages and strategies to increase healthy food choices by children and parents. There is no cost to respondents other than their time to participate in the survey.

Estimated Annualized Burden Hours
Type of respondents | Form name | Number of respondents | Number of responses per respondent | Average burden (in hours) | Total burden (in hours)
Children | Screener D1 for Parent & Child Groups | 384 | 1 | 3/60 | 19
| Screener D2 for Child Only Groups | 384 | 1 | 3/60 | 19
| Focus Group Moderator's Guide for Children/Youth | 384 | 1 | 2 | 768
Parents | Screener D1 for Parent & Child Groups | 192 | 1 | 7/60 | 22
| Screener D2 for Child Only Groups | 192 | 1 | 7/60 | 22
| Screener D3 for Parent Only Groups | 288 | 1 | 7/60 | 34
| Focus Group Moderator's Guide for Parents | 336 | 1 | 2 | 672
Total |  |  |  |  | 1,556

Dated: December 6, 2007.
Maryam I. Daneshvar,
Acting Reports Clearance Officer, Centers for Disease Control and Prevention.

[FR Doc. E7-24138 Filed 12-12-07; 8:45 am]

BILLING CODE 4163-18-P